DEPARTMENT OF THE TREASURY

Office of the Comptroller of the Currency

Agency Information Collection Activities: Proposed Information Collection; Submission for OMB Review

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. Currently, the OCC is soliciting comment concerning a renewal of an existing collection titled “Customer Complaint Form.” The OCC also is giving notice that it has submitted the collection to OMB for review.

DATES: You should submit written comments by: October 15, 2012.

ADDRESSES: You should direct all written comments to: Communications Division, Office of the Comptroller of the Currency, Mailstop 2-3, Attention: 1557-0232, 250 E Street SW., Washington, DC 20219. In addition, comments may be sent by fax to (202) 874-5274, or by electronic mail to regs.comments@occ.treas.gov. You can inspect and photocopy the comments at the OCC, 250 E Street SW., Washington, DC 20219. You can make an appointment to inspect the comments by calling (202) 874-5043. For security reasons, the OCC requires that visitors make an appointment to inspect comments. You may do so by calling (202) 874-4700. Upon arrival, visitors will be required to present valid government-issued photo identification and to submit to security screening in order to inspect and photocopy comments.

Additionally, you should send a copy of your comments to OCC Desk Officer, 1557-0232, by mail to U.S. Office of Management and Budget, 725 17th Street NW., #10235, Washington, DC 20503, or by fax to (202) 395-6974.

FOR FURTHER INFORMATION CONTACT: You can request additional information or a copy of the collection from Mary Gottlieb, (202) 874-5090, Legislative and Regulatory Activities Division (1557-0202), Office of the Comptroller of the Currency, 250 E Street SW., Washington, DC 20219.

SUPPLEMENTARY INFORMATION: On July 21, 2011, pursuant to the Dodd-Frank Wall Street Reform and Consumer Protection Act (Dodd-Frank Act),¹ the Bureau of Consumer Financial Protection (CFPB) was granted the authority to, among other things, supervise large banks and Federal savings associations with more than $10 billion in assets for compliance with certain consumer protection laws. The CFPB's authority also includes the handling of consumer complaints related to those large financial companies.

¹ See, Dodd-Frank Wall Street Reform and Consumer Protection Act, Public Law 111-203, 124 Stat. 1990, July 21, 2010 (Dodd-Frank).

Representatives from the OCC and the CFPB as well as the other FFIEC agencies have been meeting on a regular basis since the passage of the Dodd-Frank Act to establish policies and procedures to coordinate the processing of consumer complaints. The OCC will continue to process questions and complaints concerning consumer issues within the jurisdiction of the OCC through our Consumer Assistance Group (CAG), and will continue to forward misdirected complaints to the appropriate Federal or state regulator.

Title: Customer Complaint Form.

OMB Control No.: 1557-0232.

Description: The customer complaint form was developed as a courtesy for those who contact CAG at the OCC, and wish to file a formal, written complaint. The form, which is optional, helps consumers to focus the issues of their complaint to provide a complete picture of their concerns so that CAG does not have to delay its review by going back to the consumer for additional information. In this way, completion of the form allows CAG to process a complaint more efficiently.

CAG uses the information on the form to create a record of the consumer's contact, to capture information that can be used to resolve the consumer's issues, and to develop a database of information that can be incorporated into the OCC's supervisory process.

Type of Review: Regular.

Affected Public: Businesses or other for-profit.

Number of Respondents: 40,000.

Total Annual Responses: 40,000.

Frequency of Response: On occasion.

Total Annual Burden Hours: 3,320.

The OCC published the collection for 60 days of public comment on June 21, 2012. 77 FR 37475. No comments were received. Comments continue to be invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: September 11, 2012.
Michele Meyer,
Assistant Director, Legislative & Regulatory Activities Division.

[FR Doc. 2012-22730 Filed 9-13-12; 8:45 am]

BILLING CODE 4810-33-P